DEPARTMENT OF TRANSPORTATION

Federal Aviation Administration

14 CFR Part 39

[Docket No. FAA-2010-0177; Directorate Identifier 2009-NM-222-AD; Amendment 39-16349; AD 2010-14-04]

RIN 2120-AA64

Airworthiness Directives; Airbus Model A330-243, -341, -342, and -343 Airplanes; and Model A340-541 and -642 Airplanes; Equipped With Rolls-Royce Trent 500 and Trent 700 Series Engines

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

It has been evidenced by test that the tightening torque settings on the Rolls-Royce Trent 500 and Trent 700 forward (FWD) and aft (AFT) engine mount link pin retention bolts have always been higher than the design value. These bolts retain the washers that maintain the engine mount vertical load pins in position.

If bolts, as a consequence of the over-torque, fail and move away, it would lead to loss of the vertical load pins, which could result in loss of the primary and/or secondary load path of the forward and/or aft engine mount which could potentially lead to engine separation.

* * * * *

We are issuing this AD to require actions to correct the unsafe condition on these products.

DATES: This AD becomes effective August 5, 2010.

The Director of the Federal Register approved the incorporation by reference of certain publications listed in this AD as of August 5, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on March 4, 2010 (75 FR 9809). That NPRM proposed to correct an unsafe condition for the specified products. The MCAI states:

It has been evidenced by test that the tightening torque settings on the Rolls-Royce Trent 500 and Trent 700 forward (FWD) and aft (AFT) engine mount link pin retention bolts have always been higher than the design value. These bolts retain the washers that maintain the engine mount vertical load pins in position.

If bolts, as a consequence of the over-torque, fail and move away, it would lead to loss of the vertical load pins, which could result in loss of the primary and/or secondary load path of the forward and/or aft engine mount which could potentially lead to engine separation.

As a short term action, EASA AD 2008-0019 was issued to require a one-time visual inspection of the impacted FWD and AFT engine mount link pin retention bolts in order to detect any broken or missing bolts. This AD, which supersedes EASA AD 2008-0019, mandates a one-time [detailed] visual inspection of the FWD and AFT engine mount link pin retention bolts, in order to ensure that any over-torqued bolt is replaced.

You may obtain further information by examining the MCAI in the AD docket.

Comments

We gave the public the opportunity to participate in developing this AD. We considered the comment received.

Request To Allow Use of Later Approved Revisions of Service Information

Deutsche Lufthansa AG requests that we allow the use of later-approved revisions of Airbus Mandatory Service Bulletins A330-71-3022 and A340-71-5004, both dated May 5, 2009, for compliance with the requirements of the AD. The commenter states that this would enable the operators to be in compliance without using the AMOC procedure.

We disagree with this request. We cannot use the phrase “or later FAA-approved revisions” in an AD when referring to the service document because doing so violates Office of the Federal Register (OFR) regulations for approval of materials “incorporated by reference” in rules. In general terms, we are required by these OFR regulations to either publish the service document contents as part of the actual AD language; or submit the service document to the OFR for approval as “referenced” material, in which case we may only refer to such material in the text of an AD. The AD may refer to the service document only if the OFR approved it for “incorporation by reference.” To allow operators to use later revisions of the referenced document (issued after publication of the AD), either we must revise the AD to reference specific later revisions, or operators must request approval to use later revisions as an alternative method of compliance with this AD [under the provisions of paragraph (k) of this AD]. We have not changed the AD in this regard.

Clarification of Compliance Time

We have made a minor editorial change to clarify the compliance time specified in paragraph (h) of this AD.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 1 product of U.S. registry. We also estimate that it will take about 10 work-hours per product to comply with the basic requirements of this AD. The average labor rate is $85 per work-hour. Required parts will cost about $10,842 per product. Where the service information lists required parts costs that are covered under warranty, we have assumed that there will be no charge for these parts. As we do not control warranty coverage for affected parties, some parties may incur costs higher than estimated here. Based on these figures, we estimate the cost of this AD to the U.S. operators to be $11,692.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-14-04 Airbus: Amendment 39-16349. Docket No. FAA-2010-0177; Directorate Identifier 2009-NM-222-AD.

Effective Date

(a) This airworthiness directive (AD) becomes effective August 5, 2010.

Affected ADs

(b) None.

Applicability

(c) This AD applies to Airbus Model A330-243, -341, -342, and -343 airplanes; and Model A340-541 and -642 airplanes; certificated in any category; equipped with Rolls-Royce Trent 500 and Trent 700 series engines.

Subject

(d) Air Transport Association (ATA) of America Code 71: Powerplant.

Reason

(e) The mandatory continuing airworthiness information (MCAI) states:

It has been evidenced by test that the tightening torque settings on the Rolls-Royce Trent 500 and Trent 700 forward (FWD) and aft (AFT) engine mount link pin retention bolts have always been higher than the design value. These bolts retain the washers that maintain the engine mount vertical load pins in position.

If bolts, as a consequence of the over-torque, fail and move away, it would lead to loss of the vertical load pins, which could result in loss of the primary and/or secondary load path of the forward and/or aft engine mount which could potentially lead to engine separation.

As a short term action, EASA AD 2008-0019 was issued to require a one-time visual inspection of the impacted FWD and AFT engine mount link pin retention bolts in order to detect any broken or missing bolts. This AD, which supersedes EASA AD 2008-0019, mandates a one-time [detailed] visual inspection of the FWD and AFT engine mount link pin retention bolts, in order to ensure that any over-torqued bolt is replaced.

Compliance

(f) You are responsible for having the actions required by this AD performed within the compliance times specified, unless the actions have already been done.

Actions

(g) Except as provided by paragraph (h) of this AD, at the applicable time specified in paragraph (g)(1) or (g)(2) of this AD, perform a one-time detailed visual inspection for the presence of an “X” marked on the heads of the link pin retention bolts of the forward and aft engine mount on all Rolls-Royce Trent 500 and Trent 700 series engines, in accordance with the Accomplishment Instructions of Airbus Mandatory Service Bulletin A330-71-3022 (for Models A330-243, -341, -342, and -343 airplanes) or A340-71-5004 (for Model A340-541 and -642 airplanes), both dated May 5, 2009. If the bolt head is not marked with an “X,” before further flight, replace this bolt with a new bolt marked with an “X” on the bolt head in accordance with the Accomplishment Instructions of Airbus Mandatory Service Bulletin A330-71-3022 (for Models A330-243, -341, -342, and -343 airplanes) or A340-71-5004 (for Model A340-541 and -642 airplanes), both dated May 5, 2009.

(1) For Model A330-243, -341, -342, and -343 airplanes: Within 4,500 flight cycles after the effective date of this AD.

(2) For Model A340-541 and -642 airplanes: Within 2,500 flight cycles after the effective date of this AD.

(h) The actions specified in paragraph (g) of this AD are not required for any engine installed on the airplanes listed in paragraph (g)(1) of this AD, having serial number 964 and subsequent; and the airplanes listed in paragraph (g)(2) of this AD, having serial number 981 and subsequent; if data records conclusively prove that this engine has not been replaced or re-installed since the date of issuance of the original French airworthiness certificate or the date of issuance of the original French or EASA export certificate of airworthiness.

(i) After the effective date of this AD, no person may install a Rolls-Royce Trent 500 or Trent 700 series engine on any airplane, unless it is in compliance with the requirements of this AD.

(j) Although Airbus Mandatory Service Bulletins A330-71-3022 and A340-71-5004, both dated May 5, 2009, specify to submit certain information to the manufacturer, this AD does not include that requirement.

FAA AD Differences

Note 1: This AD differs from the MCAI and/or service information as follows:

(1) The MCAI lists certain Airbus Model A330-200 series and -300 series, and Model A340 series airplanes. Airbus Mandatory Service Bulletins A330-71-3022 and A340-71-5004, both dated May 5, 2009, clarify this effectivity by adding “with Rolls-Royce Trent 500 and Trent 700 series engines.” Airplanes with engines other than Rolls-Royce Trent 500 and Trent 700 are not affected by this AD.

(2) Although the MCAI or service information tells you to submit information to the manufacturer, paragraph (j) of this AD specifies that such submittal is not required.

Other FAA AD Provisions

(k) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to MCAI EASA Airworthiness Directive 2009-0204, dated September 30, 2009; Airbus Mandatory Service Bulletin A330-71-3022, dated May 5, 2009; and Airbus Mandatory Service Bulletin A340-71-5004, dated May 5, 2009; for related information.

Material Incorporated by Reference

(m) You must use Airbus Mandatory Service Bulletin A330-71-3022, including Appendices 01 and 02 and excluding Appendix 03, dated May 5, 2009; and Airbus Mandatory Service Bulletin A340-71-5004, including Appendices 01 and 02 and excluding Appendix 03, dated May 5, 2009; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on June 16, 2010.
Robert D. Breneman,
Acting Manager, Transport Airplane Directorate, Aircraft Certification Service.

[FR Doc. 2010-15831 Filed 6-30-10; 8:45 am]

BILLING CODE 4910-13-P